DEPARTMENT OF LABOR

Employment and Training Administration

[TA-W-81,021]

Bayer Cropscience, LP, Including On-Site Leased Workers From Jacobs PSG, Middough Associates, Inc., Adecco, CDI Engineering Solutions, Becht Engineering, Engineering Support Systems, Manufacturing Management Services, US Securities, WB Wells, Belcan, American Engineers, CH2M Hill Engineers, Inc., Digital Management Group, Mercury Air Group, Inc., Greenwood, and Professional Maintenance of Charleston (PMOC) Institute, West Virginia; Amended Certification Regarding Eligibility To Apply for Worker Adjustment Assistance

In accordance with Section 223 of the Trade Act of 1974, as amended (“Act”), 19 U.S.C. 2273, the Department of Labor issued a Certification of Eligibility to Apply for Worker Adjustment Assistance on February 3, 2012, applicable to workers of Bayer Cropscience, LP, including on-site leased workers from Jacobs PSG, Middough Associates, Inc., Adecco, CDI Engineering Solutions, Becht Engineering, Engineering Support Systems, Manufacturing Management Services, US Securities, WB Wells, Belcan American Engineers, CH2M Hill Engineers, Inc., Digital Management Group, Mercury Air Group, Inc., Greenwood, and Professional Maintenance of Charleston (PMOC), Institute, West Virginia. The workers are engaged in activities related to the production of pesticides. The notice was published in the Federal Register on February 21, 2012 (77 FR 9971).

At the request of the International Association of Machinists and Aerospace Workers (IAMAW), the Department reviewed the certification for workers of the subject firm. New information from the company shows that workers leased from Professional Maintenance of Charleston (PMOC) were employed on-site at the Institute, West Virginia location of Bayer CropScience, LP. The Department has determined that these workers were sufficiently under the control of Bayer CropScience, LP, Institute, West Virginia to be considered leased workers.

The intent of the Department's certification is to include all workers of the subject firm who were adversely affected by increased company imports of pesticides.

Based on these findings, the Department is amending this certification to include workers leased from Professional Maintenance of Charleston (PMOC) working on-site at the Institute, West Virginia location of the subject firm.

The amended notice applicable to TA-W-81,021 is hereby issued as follows:

All workers from Bayer CropScience, including on-site leased workers from Jacobs PSG, Middough Associates, Inc., Adecco, CDI Engineering Solutions, Becht Engineering, Engineering Support Systems, Manufacturing Management Services, US Securities, WB Wells, Belcan, American Engineers, CH2M Hill Engineers, Inc., Digital Management Group, Mercury Air Group, Inc., Greenwood, and Professional Maintenance of Charleston (PMOC), Institute, West Virginia, who became totally or partially separated from employment on or after February 13, 2010, through February 3, 2014, and all workers in the group threatened with total or partial separation from employment on date of certification through two years from the date of certification, are eligible to apply for adjustment assistance under Chapter 2 of Title II of the Trade Act of 1974, as amended.

Signed at Washington, DC, this 23rd day of March 2012.
Michael W. Jaffe.
Certifying Officer, Office of Trade Adjustment Assistance.

[FR Doc. 2012-8502 Filed 4-9-12; 8:45 am]

BILLING CODE 4510-FN-P